DEPARTMENT OF JUSTICE

Parole Commission

Sunshine Act Notice; Public Announcement

Pursuant To The Government In the Sunshine Act (Public Law 94-409) [5 U.S.C. Section 552b].

AGENCY HOLDING MEETING: Department of Justice, United States Parole Commission.

TIME AND DATE: 9:30 a.m., Wednesday, January 17, 2001.

PLACE: 5550 Friendship Blvd., Fourth Floor, Chevy Chase, MD 20815.

STATUS: Open.

MATTERS TO BE CONSIDERED: The following matters have been placed on the agenda for the open Parole Commission meeting:

1. Approval of minutes of previous Commission meeting.

2. Reports from the Chairman, Commissioners, Legal, Chief of Staff, Case Operations, and Administrative Sections.

3. Adoption of Rule for attorney qualifications for District of Columbia Code cases similar to Rule adopted for federal cases at 28 CFR § 2.61.

4. Adoption of Final Version of the U.S. Parole Commission Rules and Procedures Manual.

AGENCY CONTACT: Sam Robertson, Case Operations, United States Parole Commission, (301) 492-5962.

Dated: January 9, 2001.
Michael A. Stover,
General Counsel, U.S. Parole Commission.

[FR Doc. 01-1160 Filed 1-10-01; 10:55 am]

BILLING CODE 4410-31-M